ENVIRONMENTAL PROTECTION AGENCY

40 CFR Part 122

[OW-2002-0068; FRL-7897-2]

RIN 2040-AE71

Public Meeting To Discuss Technical Issues Associated With the National Pollutant Discharge Elimination System (NPDES) Stormwater Permit Coverage for Small Oil and Gas Construction Activities

AGENCY: Environmental Protection Agency (EPA).

ACTION: Notice of public meeting.

SUMMARY: The Environmental Protection Agency will hold a public meeting to discuss specific issues associated with the development of regulations for storm water discharges from oil and gas construction activities. The intent of the public meeting is to provide an opportunity for stakeholders to participate in an open discussion of the technical issues associated with controlling storm water discharges from oil and gas construction activities. The meeting is designed to facilitate an exchange of information between interested parties and EPA on critical technical and procedural issues relating to a proposed rulemaking. The Agency expects to consider the information provided in its technical analysis for developing a framework for regulating storm water discharges from oil and gas construction sites. To structure the meeting, EPA will give several presentations, which will then be followed by a question and comment period from the participants.

DATES: The public meeting will be held on Tuesday, May 10, 2005. The meeting will begin promptly at 10 a.m. and end at approximately 4 p.m.

ADDRESSES: The meeting will be held at the Adolphus Hotel located at 1321 Commerce Street in downtown Dallas, Texas. The hotel is located 18 miles from the Dallas Fort Worth airport and 8 miles from Love Field airport. If you need overnight accommodations, please contact the hotel directly. The Adolphus hotel phone number is 214-651-3631.

FOR FURTHER INFORMATION CONTACT: Ruby Cooper of the Office of Wastewater Management (4203M), U.S. Environmental Protection Agency, 1200 Pennsylvania Ave., NW., Room 7329F, EPA East, Washington, DC 20460; telephone number: (202) 564-0751; fax number: (202) 564-6431: e-mail address: cooper.ruby@epa.gov. For any updates on the issues that EPA will discuss at the meeting, refer to EPA's storm water Web site at http://www.epa.gov/npdes/stormwater.

SUPPLEMENTARY INFORMATION: On March 9, 2005 (70 FR 11560) EPA issued a final rule providing a fifteen month postponement of the NPDES permit requirement for oil and gas construction activity disturbing one to five acres, from March 10, 2005, to June 12, 2006. This postponement allows additional time for EPA to complete its analysis of the issues raised by stakeholders about storm water discharges from construction activities at oil and gas sites and of practices and methods for controlling these storm water discharges to mitigate impacts on water quality. Within approximately five months EPA intends to publish a notice of proposed rulemaking in the Federal Register addressing these discharge issues and to invite public comment.

The purpose of this public meeting is to give all interested stakeholders an opportunity to hear some of EPA's preliminary findings and to discuss specific technical and procedural issues associated with controlling stormwater discharges from oil and gas construction sites. In addition, EPA will provide an overview of the regulatory process and the schedule for the proposed rulemaking.

To register for the meeting, please contact Ms. Jamie Mallen of Tetra Tech via FAX at (703) 385-6007 or via e-mail at Jamie.Mallen@tetratech-ffx.com. She may also be reached at the Tetra Tech main number at 703-385-6000. Please register by April 22, 2005. Depending on time available and the number of participants that wish to express their viewpoint, EPA will try to accommodate all meeting participants desiring to make a formal statement for the record. Formal statements are restricted to five minutes. In order to better plan the meeting and ensure that all participants have an opportunity to speak, EPA requests that those individuals desiring to make a formal prepared statement notify Ms. Jamie Mallen of Tetra Tech of their intent at least 10 days prior to the meeting. EPA further requests that any participant desiring to introduce specific technical information and/or quantitative data relating to a particular subject provide a print copy of the materials (e.g., spreadsheets, tables, references, cites, etc.) to avoid any errors in the meeting record. EPA has secured the services of an independent contractor to serve as the meeting facilitator. A transcript and summary of the proceedings will be made available on the Office of Wastewater Management Web site (http://www.epa.gov/npdes/stormwater) within 30 days after the meeting date.

Dated: April 5, 2005.
Benjamin H. Grumbles,
Assistant Administrator for Water.

[FR Doc. 05-7221 Filed 4-8-05; 8:45 am]

BILLING CODE 6560-50-P